SECURITIES AND EXCHANGE COMMISSION

[Release No. 34-91871; File No. SR-NYSE-2021-20]

Self-Regulatory Organizations; New York Stock Exchange LLC; Notice of Withdrawal of a Proposed Rule Change To Amend Section 102.04 of the NYSE Listed Company Manual To Establish Limits on Investments in Unregistered Investment Vehicles by Listed Closed End Funds

May 12, 2021.

On April 9, 2021, New York Stock Exchange LLC (“NYSE”) filed with the Securities and Exchange Commission (“Commission”), pursuant to Section 19(b)(1) of the Securities Exchange Act of 1934 ¹ and Rule 19b-4 thereunder,² a proposed rule change to establish limits on investments in unregistered investment vehicles by listed closed end funds. The proposed rule change was published for comment in the Federal Register on April 26, 2021.³ On May 6, 2021, NYSE withdrew the proposed rule change (SR-NYSE-2021-20).

¹ 15 U.S.C. 78s(b)(1).

² 17 CFR 240.19b-4.

³ See Securities Exchange Act Release No. 91618 (April 20, 2021), 86 FR 22080 (April 26, 2021).

For the Commission, by the Division of Trading and Markets, pursuant to delegated authority.⁴
⁴ 17 CFR 200.30-3(a)(12).
J. Matthew DeLesDernier,
Assistant Secretary.

[FR Doc. 2021-10387 Filed 5-17-21; 8:45 am]

BILLING CODE 8011-01-P